DEPARTMENT OF THE INTERIOR

Minerals Management Service

Agency Information Collection Activities: Submitted for Office of Management and Budget (OMB) Review; Comment Request

AGENCY: Minerals Management Service (MMS), Interior.

ACTION: Notice of extension of an information collection (1010-0142).

SUMMARY: To comply with the Paperwork Reduction Act of 1995 (PRA), we are notifying the public that we have submitted to OMB an information collection request (ICR) to renew approval of the paperwork requirements in the regulations under 30 CFR 250, subpart Q, Decommissioning Activities. This notice also provides the public a second opportunity to comment on the paperwork burden of these regulatory requirements.

DATES: Submit written comments by October 22, 2007.

ADDRESSES: You may submit comments either by fax (202) 395-6566 or e-mail OIRA_DOCKET@omb.eop.gov directly to the Office of Information and Regulatory Affairs, OMB, Attention: Desk Officer for the Department of the Interior (1010-0142). Mail or hand carry a copy of your comments to the Department of the Interior; Minerals Management Service; Attention: Cheryl Blundon; Mail Stop 4024; 381 Elden Street; Herndon, Virginia 20170-4817. If you wish to e-mail your comments to MMS, the address is: rules.comments@mms.gov. Reference Information Collection 1010-0142 in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR 250, subpart Q, Decommissioning Activities.

OMB Control Number: 1010-0142.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

This authority and responsibility are among those delegated to the Minerals Management Service (MMS). The regulations at 30 CFR 250, Subpart Q, concern decommissioning of platforms, wells, and pipelines, as well as site clearance and platform removal and are the subject of this collection.

The MMS uses the information collected under Subpart Q in the following ways:

• § 250.1722(c). MMS requires notification within 5 days in the event a trawl hangs up on (or damages) a protective device (dome) over a subsea wellhead or casing stub in order to ensure that repairs are initiated as soon as possible in order to eliminate or minimize the possibility that shrimp boats will hang up on the obstruction and cause damage to their nets. It allows MMS to notify other users of the OCS of the obstruction in a timely manner, thereby reducing the risk to their equipment.

• § 250.1713. MMS requires notification within 48 hours before beginning well plugging and abandonment operations in order to have the option of scheduling MMS personnel to observe operations on site to ensure they are conducted in accordance with applicable regulations and approved procedures.

• § 250.1725. MMS requires notification within 48 hours before beginning platform removal operations in order to have the option of scheduling MMS personnel to observe removal operations on site in the field to ensure that they are conducted in accordance with applicable regulations and approved procedures for the use of explosives, removal of platform piling to 15 feet below the seafloor, proper site clearance, etc.

Responses are mandatory. No questions of a “sensitive” nature are asked. We protect proprietary information according to the Freedom of Information Act (5 U.S.C. 552) and its implementing regulations (43 CFR part 2), and 30 CFR 250.197, “Data and information to be made available to the public or for limited inspection.”

Frequency: On occasion, annual; and as specified in sections.

Estimated Number and Description of Respondents: Approximately 218 Federal OCS oil, gas, and sulphur lessees and holders of pipeline rights-of-way.

Estimated Reporting and Recordkeeping “Hour” Burden: The estimated annual “hour” burden for this information collection is a total of 17,991 hours. The following chart details the individual components and burdens. In calculating the burdens, we assumed that respondents perform certain requirements in the normal course of their activities. We consider these to be usual and customary and took that into account in estimating the burden.

Citation 30 CFR 250 Subpart Q | Reporting requirement | Hour burden | Average number of annual responses | Annual burden hours
General
|  | Fees
1700 thru 1754 | General departure and alternative compliance requests not specifically covered elsewhere in subpart Q regulations | 3 | 50 requests | 150
1703; 1704 | Request approval for decommissioning | Burden included below |  | 0
1704(g); 1712; 1716; 1717; 1721(a), (d), (f), (g); 1722(a), (b), (d); 1723(b); 1743(a) | Submit form MMS-124 to plug wells; provide subsequent report; request alternate depth departure; request procedure to protect obstructions above seafloor; report within 30 days, results of trawling; certify area cleared of obstructions; remove casing stub or mud line suspension equipment and subsea protective covering; or other departures | Burden included under 1010-0141 |  | 0
Subtotal |  |  | 50 responses | 150
Permanently Plugging Wells
1713 | Notify MMS 48 hours before beginning operations to permanently plug a well | .25 | 400 notices | 100
Subtotal |  |  | 400 responses | 100
Temporary Abandoned Wells
1721(e); 1722(e), (h)(1); 1741(c) | Identify and report subsea wellheads, casing stubs, or other obstructions; mark wells protected by a dome; mark location to be cleared as navigation hazard | U.S. Coast Guard requirements |  | 0
1722(c), (g)(2) | Notify MMS within 5 days if trawl does not pass over protective device or causes damages to it; or if inspection reveals casing stub or mud line suspension is no longer protected | .25 | 10 notices | 3
1722(f), (g)(3) | Submit annual report on plans for re-entry to complete or permanently abandon the well and inspection report | 2 | 75 reports | 150
1722(h) | Request waiver of trawling test | 2 | 5 requests | 10
Subtotal |  |  | 90 responses | 163
Removing Platforms and Other Facilities
1726; 1704(a) | Submit initial decommissioning application in the Pacific OCS Region and Alaska OCS Region | 20 | 2 applications | 40
1725; 1727; 1728; 1730; 1704(b) | Submit final application and appropriate data to remove platform or other subsea facility structures (including alternate depth departure) or approval to maintain, to conduct other operations, or to convert to artificial reef | 20 | 150 applications | 3,000
|  | $4,100 fee × 150 − $615,000
1725(e) | Notify MMS 48 hours before beginning removal of platform and other facilities | .25 | 150 notices | 38
1729; 1704(c) | Submit post platform or other facility removal report | 8 | 150 reports | 1,200
Subtotal |  |  | 452 responses | 4,278
|  |  | $615,000
Site Clearance for Wells, Platforms, and Other Facilities
1740; | Request approval to use alternative methods of well site, platform, or other facility clearance | 12 | 75 requests | 900
1743(b) | Verify permanently plugged well, platform, or other facility removal site cleared of obstructions and submit certification letter | 18 | 400 verifications | 7,200
Subtotal |  |  | 475 responses | 8,100
Pipeline Decommissioning
1751; 1752; 1704(d) | Submit application to decommission pipeline in place or remove pipeline (L/T or ROW) | 10 | 400 applications | 4,000
|  | $1,000 L/T decommission fee x 247 = $247,000
|  | $1,900 ROW decommission fee x 153 = $290,700
1753 | Submit post pipeline decommissioning report | 3 | 400 reports | 1,200
Subtotal |  |  | 800 responses | 5,200
|  |  | $537,700
Total Burden |  |  | 2,267 responses | 17,991
|  |  | $1,152,700 Fees
L/T = Lease Term ROW = Right of Way.

Estimated Reporting and Recordkeeping “Non-Hour Cost” Burden: There are three non-hour costs associated with this information collection. The estimated non-hour cost burden is $1,152,700. Sections 250.1751(a), 250.1752(a), and 250.1727 require respondents to pay filing fees when submitting a request to remove a platform or other facility, to decommission a lease term pipeline, or to decommission a ROW pipeline. The application filing fees are required to recover the Federal Government's processing costs. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on December 4, 2006, we published a Federal Register notice (71 FR 70424) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by October 22, 2007.

Public Comment Procedures: Before including your address, phone number, email address, or other personal identifying information in your comment, you should be aware that your entire comment-including your personal identifying information-may be made publicly available at any time. While you can ask us in your comment to withhold your personal identifying information from public review, we cannot guarantee that we will be able to do so.

MMS Information Collection Clearance Officer: Arlene Bajusz, (202) 208-7744.

Dated: September 17, 2007.
Melinda Mayes,
Acting Chief, Office of Offshore Regulatory Programs.

[FR Doc. E7-18644 Filed 9-20-07; 8:45 am]

BILLING CODE 4310-MR-P